DEPARTMENT OF TRANSPORTATION

Federal Aviation Administration

14 CFR Part 39

[Docket No. FAA-2011-1075; Directorate Identifier 2011-SW-011-AD; Amendment 39-16836; AD 2011-21-13]

RIN 2120-AA64

Airworthiness Directives; Eurocopter Deutschland GmbH (ECD) Model MBB-BK 117 C-2 Helicopters

AGENCY: Federal Aviation Administration, DOT.

ACTION: Final rule; request for comments.

SUMMARY: This amendment adopts a new airworthiness directive (AD) for ECD Model MBB-BK 117 C-2 helicopters. This action requires revising the Rotorcraft Flight Manual (RFM) by inserting certain temporary pages into the Emergency and Performance Data sections of the RFM to alert the operators to monitor the power display when a generator is deactivated and provides appropriate actions. This amendment is prompted by reports of too high a current flow when one generator is deactivated. The actions specified in this AD are intended to prevent failure of the remaining generator when one generator is deactivated, loss of electrical power, loss of systems necessary for flight safety, and subsequent loss of control of the helicopter.

DATES: Effective November 21, 2011.

The incorporation by reference of certain publications listed in the regulations is approved by the Director of the Federal Register as of November 21, 2011.

Comments for inclusion in the Rules Docket must be received on or before January 3, 2012.

ADDRESSES: Use one of the following addresses to submit comments on this AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: George Schwab, Aviation Safety Engineer, FAA, Rotorcraft Directorate, Safety Management Group, 2601 Meacham Blvd., Fort Worth, Texas 76137, telephone (817) 222-5114, fax (817) 222-5961.

SUPPLEMENTARY INFORMATION:

Discussion

The European Aviation Safety Agency (EASA), which is the Technical Agent for the Member States of the European Union, has issued EASA AD No. 2010-0268-E, dated December 21, 2010, to correct an unsafe condition for the ECD Model MBB-BK 117 C-2 helicopters. EASA advises of reports that on some helicopters a too high current flow was detected when one generator was deactivated (for example, during the ENGINE POWER CHECK). EASA also advises that this situation, if not detected and corrected, could lead to failure of the generator, likely resulting in loss of electrical power and inducing loss of systems that are necessary for safe flight. Therefore, the EASA AD requires additional RFM procedures to include visual monitoring of the electrical power display during switching of a generator. Also, EASA advises that their AD is an interim measure pending the development of a final solution that will prevent this particular mode of generator failure.

Related Service Information

ECD has issued Alert Service Bulletin ASB MBB BK117 C-2-24A-008, dated December 20, 2010 (ASB). The ASB specifies inserting certain pages from the ASB into the RFM to alert operators to visually monitor the power display generator amperes (GEN AMPS) on the Vehicle and Engine Multifunction Display (VEMD) for too high a current flow when a generator has been deactivated; for example, during the ENGINE POWER CHECK. In such a situation, the revised RFM provides instructions for switching off the two main electrical buses (BUS TIEs) on the overhead panel to prevent the operating generator from being damaged. The ASB states that failure of the generator could result in subsequent loss of electrical power and loss of systems. EASA classified this ASB as mandatory and issued AD No. 2010-0268-E, dated December 21, 2010, to ensure the continued airworthiness of these helicopters.

FAA's Evaluation and Unsafe Condition Determination

These helicopters have been approved by the aviation authority of the Federal Republic of Germany and are approved for operation in the United States. Pursuant to our bilateral agreement with the Federal Republic of Germany, EASA, their technical representative, has notified us of the unsafe condition described in the EASA AD. We are issuing this AD because we evaluated all information provided by EASA and determined the unsafe condition exists and is likely to exist or develop on other helicopters of this same type design.

FAA's Determination and Requirements of This AD

This unsafe condition is likely to exist or develop on other helicopters of the same type design. This amendment adopts a new AD for ECD Model MBB-BK 117 C-2 helicopters. This action requires revising the Emergency Procedures and Performance Data sections of the RFM BK117 C-2 by copying or cutting out the temporary pages 7, 8, and 11 of the ASB and inserting the pages into RFM BK 117 C-2. This amendment is prompted by reports of too high a current flow when one generator is deactivated. The actions specified in this AD are intended to revise the RFM by inserting temporary pages into the Emergency Procedures and Performance Data sections. The revisions to the RFM are intended to alert pilots to visually monitor the power display GEN AMPS on the VEMD when a generator is deactivated to detect too high a current flow and to switch off the two BUS TIEs on the overhead panel to prevent the operating generator from being damaged. Accomplish the actions by copying or cutting out pages 7, 8, and 11 of the ASB described previously and inserting them into the Emergency Procedures and Performance Data sections of the RFM.

The short compliance time involved is required because the previously described critical unsafe condition can adversely affect the controllability or structural integrity of the helicopter. Therefore, revising the Emergency and Performance Data sections of the RFM is required before further flight, and this AD must be issued immediately.

Since a situation exists that requires the immediate adoption of this regulation, it is found that notice and opportunity for prior public comment hereon are impracticable, and that good cause exists for making this amendment effective in less than 30 days.

Costs of Compliance

We estimate that this AD will affect about 232 helicopters of U.S. registry. We also estimate that it will take a minimal amount of time to copy and insert the pages into the RFM. Therefore, the cost of the AD will be minimal.

Comments Invited

This AD is a final rule that involves requirements that affect flight safety and was not preceded by notice and an opportunity for public comment; however, we invite you to submit any written data, views, or arguments regarding this AD. Send your comments to an address listed under ADDRESSES. Include “Docket No. FAA-2011-1075; Directorate Identifier 2011-SW-011-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of the docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2011-21-13 EUROCOPTER DEUTSCHLAND GmbH (ECD): Amendment 39-16836; Docket No. FAA-2011-1075; Directorate Identifier 2011-SW-011-AD.

Applicability: Model MBB-BK 117 C-2 helicopters, certificated in any category.

Compliance: Before further flight, unless accomplished previously.

To prevent failure of a generator, loss of electrical power, loss of systems necessary for flight safety, and subsequent loss of control of the helicopter, do the following:

(a) Revise the “Emergency and Malfunction Procedures” and the “Performance Data” sections of the Rotorcraft Flight Manual (RFM) BK117 C-2 by copying or cutting out temporary pages 7, 8, and 11 (RFM pages 3-3 and 3-3a for “Emergency and Malfunction Procedures” and page 5-7 for “Performance Data”) of ECD Alert Service Bulletin No. ASB MBB BK117 C-2-24A-008, dated December 20, 2010, and inserting the pages into RFM BK 117 C-2.

(b) To request a different method of compliance or a different compliance time for this AD, follow the procedures in 14 CFR 39.19. Contact the Manager, Safety Management Group, ATTN: George Schwab, Aviation Safety Engineer, FAA, Rotorcraft Directorate, 2601 Meacham Blvd., Fort Worth, Texas 76137, telephone (817) 222-5114, fax (817) 222-5961, for information about previously approved alternative methods of compliance.

(c) The Joint Aircraft System/Component (JASC) Code is 2435: Starter-Generator, 2437: DC Indicating System, and 2430: DC Generator System.

(d) Revise the Emergency Procedures and Performance Data sections of RFM BK 117 C-2 by inserting the specified portions of ECD Alert Service Bulletin No. ASB MBB BK117 C-2-24A-008, dated December 20, 2010, into the RFM. The Director of the Federal Register approved this incorporation by reference in accordance with 5 U.S.C. 552(a) and 1 CFR part 51. Copies may be obtained from American Eurocopter Corporation, 2701 Forum Drive, Grand Prairie, TX 75053-4005, telephone (800) 232-0323, fax (972) 641-3710, or at http://www.eurocopter.com. Copies may be inspected at the FAA, Office of the Regional Counsel, Southwest Region, 2601 Meacham Blvd., Room 663, Fort Worth, Texas, or at the National Archives and Records Administration (NARA). For information on the availability of this material at NARA, call (202) 741-6030, or go to: http://www.archives.gov/federal_register/code_of_federal_regulations/ibr_locations.html.

(e) This amendment becomes effective on November 21, 2011.

Note: The subject of this AD is addressed in The European Aviation Safety Agency (the Federal Republic of Germany) AD No. 2010-0268-E, dated December 21, 2010.

Issued in Fort Worth, Texas, on September 29, 2011.
Kim Smith,
Manager, Rotorcraft Directorate, Aircraft Certification Service.

[FR Doc. 2011-27776 Filed 11-3-11; 8:45 am]

BILLING CODE 4910-13-P